DEPARTMENT OF EDUCATION

[Docket ID ED-2019-FSA-0082]

Privacy Act of 1974; Matching Program

AGENCY: Department of Education.

ACTION: Notice of a new matching program.

SUMMARY: This provides notice of the re-establishment of a matching program between the Department of Education (Department or ED) and the Selective Service System (SSS). Under the Solomon Amendment to the Military Selective Service Act Section 12(f), young men who are required under Section 3 of the Military Selective Service Act to be registered with SSS must fulfill the registration requirement in order to be eligible for any form of assistance or benefits provided under title IV of the Higher Education Act of 1965, as amended (HEA). This matching program enables ED to prevent improper payments to those applicants who are not eligible under the Military Selective Service Act to receive any form of assistance or benefit provided under title IV of the HEA.

DATES: Submit your comments on the proposed matching program on or before December 23, 2019.

The matching program will be effective whichever date is the latest of the following two dates: (1) January 2, 2020, or (2) 30 days after the publication of this notice, on November 21, 2019, unless comments have been received from interested members of the public requiring modification and republication of the notice. The matching program will continue for 18 months after the effective date and may be extended for up to an additional 12 months thereafter, if the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this proposed matching program, address them to Marya Dennis, Management and Program Analyst, U.S. Department of Education, Federal Student Aid, Union Center Plaza, 830 First Street NE, Washington, DC 20002-5345.

Privacy Note: The Department's policy is to make all comments received from members of the public available for public viewing in their entirety on the Federal eRulemaking Portal at www.regulations.gov. Therefore, commenters should be careful to include in their comments only information that they wish to make publicly available.

FOR FURTHER INFORMATION CONTACT: Marya Dennis, Management and Program Analyst, U.S. Department of Education, Federal Student Aid, Union Center Plaza, 830 First Street NE, Washington, DC 20002-5345. Telephone: (202) 377-3385.

SUPPLEMENTARY INFORMATION: We provide this notice in accordance with the Privacy Act of 1974, as amended (Privacy Act) (5 U.S.C. 552a); Office of Management and Budget (OMB) Final Guidance Interpreting the Provisions of Public Law 100-503, the Computer Matching and Privacy Protection Act of 1988, 54 FR 25818 (June 19, 1989); and OMB Circular No. A-108.

Participating Agencies: ED and SSS.

Authority for Conducting the Matching Program: The information contained in the SSS database is referred to as the Registration, Compliance and Verification System (RCV), which contains the Selective Service System Registrants Registration Records (SSS 9). ED seeks access to the RCV for the purpose of confirming the registration status of applicants for assistance under title IV of the Higher Education Act of 1965 (HEA), as amended (20 U.S.C. 1070 et seq.). Section 12(f) of the Military Selective Service Act (MSSA), as amended (50 U.S.C. 3811(f)), denies eligibility of any form of assistance or benefit provided under title IV of the HEA to any person required to present himself for, and submit to, registration under Section 3 of the MSSA (50 U.S.C. 3802) but who fails to do so in accordance with that section and any rules and regulations issued under that section. In addition, Section 12(f)(2) of the MSSA specifies that any person required to present himself for, and submit to, registration under Section 3 of the MSSA must file a statement with the institution of higher education where the person intends to attend or is attending that he is in compliance with the MSSA. Furthermore, Section 12(f)(3) of the MSSA authorizes the Secretary of Education, in agreement with the Director of the Selective Service System, to prescribe methods for verifying the statements of compliance filed by students.

Purpose(s): The matching program, which has been in effect since December 6, 1985, will permit ED to confirm the registration status of applicants for, or recipients of, financial assistance under title IV of the HEA, as authorized by section 484(n) of the HEA (20 U.S.C. 1091(n)).

Categories of Individuals: The individuals included in this matching program are FAFSA applicants who answer “Male” or “Blank” to the question “Are you Male or Female.” Of this group, FAFSA applicants are included who were born after December 31, 1959, and indicate that they are registered with the Selective Service and, applicants who request to be registered for the Selective Service on the FAFSA and are at least 17-years-old on the date they file the FAFSA for the applicable award year.

Categories of Records: The data elements sent in the record include: Name, Social Security number, Date of Birth, Address, FAFSA signature date (date used to determine the student's age), and the applicant's Signature Flag (to confirm authorization).

System(s) of Records: SSS system of Records: Selective Service Registration Records (SSS 9), (76 FR 58321, September 20, 2011) and the Department of Education Federal Student Aid Application File (18-11-01), (76 FR 46774, August 3, 2011).

Accessible Format: Individuals with disabilities can obtain this document in an accessible format (such as, braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark A. Brown,
Chief Operating Officer, Federal Student Aid.

[FR Doc. 2019-25290 Filed 11-20-19; 8:45 am]

BILLING CODE 4000-01-P